DEPARTMENT OF THE INTERIOR

Bureau of Land Management

[ID-957-1420-BJ]

Idaho: Filing of Plats of Survey

AGENCY: Bureau of Land Management, Interior.

ACTION: Notice of filing of plats of surveys.

SUMMARY: The Bureau of Land Management (BLM) will file the plat of survey of the lands described below in the BLM Idaho State Office, Boise, Idaho, 30 days from the date of publication in the Federal Register.

FOR FURTHER INFORMATION CONTACT: Bureau of Land Management, 1387 South Vinnell Way, Boise, Idaho 83709-1657.

SUPPLEMENTARY INFORMATION: This survey was executed at the request of the Bureau of Land Management to meet certain administrative needs of the Bureau of Indian Affairs. The lands we surveyed are:

The plat representing the dependent resurvey of a portion of the south boundary and subdivisional lines, the subdivision of sections 29 and 32, and the survey of the 2002-2003 meanders of the Blackfoot and Snake Rivers, the north boundary of the Fort Hall Indian Reservation, and the meanders and median line of a relicted secondary channel of the Snake River, all in sections 29, 30, and 31, in T. 3 S., R. 34 E., Boise Meridian, Idaho, was accepted January 13, 2005.

Dated: January 13, 2005.
Stanley G. French,
Chief Cadastral Surveyor for Idaho.

[FR Doc. 05-1218 Filed 1-21-05; 8:45 am]

BILLING CODE 4310-GG-P